DEPARTMENT OF COMMERCE

National Oceanic and Atmospheric Administration

[RTID 0648-XB865]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will hold a four-day meeting to consider actions affecting the Gulf of Mexico fisheries in the exclusive economic zone (EEZ). This is a hybrid meeting open to the public offering both in-person and virtual options for participation.

DATES: The meeting will convene Monday, April 4 at 8 a.m. through 5:30 p.m., CDT and Tuesday, April 5 at 8 a.m. through Thursday, April 7, 2022 at 5 p.m., CDT.

ADDRESSES: The meeting will take place at The Lodge at Gulf State Park, 21196 East Beach Boulevard, Gulf Shores, AL 36542.

Please note, in-person meeting attendees will be expected to follow any current COVID-19 safety protocols as determined by the Council, hotel and the City of Gulf Shores. Such precautions may include masks, room capacity restrictions, and/or social distancing. If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, April 4, 2022; 8 a.m.-5:30 p.m., CDT

The meeting will begin with the Administrative/Budget Committee reviewing 2022 Anticipated Activities, Budget and 2021 Funded Expenditures, and discuss Electronic Voting Process and available technology for Council and Council Bodies.

The Ecosystem Committee will review and discuss contracted Draft Fishery Ecosystem Plan, and receive a meeting summary from the Ecosystem Technical Committee meeting.

The Mackerel Committee will review and discuss Coastal Migratory Pelagics Landings, Draft Framework Amendment 11: Modifications to the Gulf of Mexico Migratory Group King Mackerel Catch Limits, Final Action: Draft Amendment 34: Atlantic Migratory Group King Mackerel Catch Levels and Atlantic King and Spanish Mackerel Management Measures, and Other Business: Discussion Gulf King Mackerel Southern Zone Gillnet Fishing Restriction on Weekends.

The Shrimp Committee will receive the Biological Review of the Texas Closure; receive update on Current Shrimp Vessel Position Data Collection, a summary from the Shrimp Advisory Panel Meeting, update on Council Request for Proposals to Address Expanded Sampling of the Fleet for Effort Monitoring in the Gulf Shrimp Industry, and SSC Recommendations on Development and Process of Using Empirical Dynamic Models on Brown and White Shrimp.

At approximately 2:45 p.m. until 5:30 p.m., the Council will convene the Full Council in a Closed Session to review and discuss the selection of Individual Fishing Quotas (IFQ) Focus Group Participants, Coral, Data Collection, and Spiny Lobster Advisory Panel Members, and select the 2021 Law Enforcement Officer of the Year or Team of the Year.

Tuesday, April 5, 2022; 8 a.m.-5 p.m., CDT

The Reef Fish Committee will convene to review Reef Fish Landings and Individual Fishing Quota (IFQ) Landings, and Federal For-hire Season Projection. The Committee will review the Red Snapper Private Recreational Component 2021 Landings Summary and 2022 Season Projections, and Draft Options: Gulf of Mexico Greater Amberjack Catch Limits, Sector Allocations, and other Rebuilding Plan Modifications. The Committee will review the revised Great Red Snapper Count Estimates and SSC Recommendations for Red Snapper Catch Advice.

Following lunch, the Committee will receive a presentation and hold a discussion on the Gulf of Mexico Gag Grouper Interim Rule, State Reef Fish Survey (SRFS) Calibration, and Interim Analysis. The Committee will hold an SSC discussion of Limited Access Privilege Programs in Mixed-use Fisheries, Focus Group Formation and Next Steps Individual Fishing Quota (IFQ) Programs, and review of the Gulf Red Grouper Interim Analysis Health Status and SSC Recommendations.

Immediately following the Reef Fish Committee, there will be a virtual and in-person GMFMC and NOAA Question and Answer Session.

Wednesday, April 6, 2022; 8 a.m.-5 p.m., CDT

The Data Collection Committee will review Draft Framework Action: Modification to Location Reporting Requirements for For-Hire Vessels, receive updates on Southeast For-Hire Integrated Electronic Reporting (SEFHIER) Program, NMFS-SERO Permits office Use of Council Funding, and upcoming Workshop to Evaluate State-Federal Recreational Survey Differences.

The Sustainable Fisheries Committee will review Final Action: Framework Action: Historical Captain Permit Conversion and discuss Allocation Review Framework.

Following lunch at approximately 1:30 p.m., the Council will reconvene with a Call to Order, Announcements and Introductions, Adoption of Agenda and Approval of Minutes.

The Council will receive presentations on Gulf of Mexico Renewable Energy and Understanding Population Dynamics of Adult Red Drum.

The Council will hold public testimony from 2:30 p.m. to 5 p.m., CDT on Final Action Items: Draft Amendment 34: Atlantic Migratory Group King Mackerel Catch levels and Atlantic King and Spanish Mackerel Management Measures and Framework Action: Historical Captain Permit Conversion; and open testimony on other fishery issues or concerns. Public comment may begin earlier than 2:30 p.m. CDT, but will not conclude before that time. Persons wishing to give public testimony in-person must register at the registration kiosk in the meeting room. Persons wishing to give public testimony virtually must sign up on the Council website on the day of public testimony. Registration for virtual testimony closes one hour (1:30 p.m. CDT) before public testimony begins.

Thursday, April 7, 2022; 8 a.m.-5 p.m., CDT

The Council will receive Committee reports from Administrative Budget, Ecosystem, Shrimp, Mackerel, Data Collection, Reef Fish and Sustainable Fisheries Management Committees; and, a Closed Session report. The Council will receive updates from the following supporting agencies: South Atlantic Fishery Management Council; Alabama Law Enforcement Efforts; NOAA Office of Law Enforcement (OLE); Gulf States Marine Fisheries Commission; U.S. Coast Guard; U.S. Fish and Wildlife Service; and Department of State.

The Council will discuss any Other Business items.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: March 8, 2022.
Tracey L. Thompson,
Acting Deputy Director, Office of Sustainable Fisheries, National Marine Fisheries Service.

[FR Doc. 2022-05263 Filed 3-11-22; 8:45 am]

BILLING CODE 3510-22-P